DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: Ryan White CARE Act: Cross-Title Data Report Form (CTDR)—New

The HIV/AIDS Bureau (HAB) of the Health Resources Services Administration (HRSA), Cross Title Data Report (CTDR) form is designed to collect information from grantees, as well as their subcontracted service providers, funded under Titles I, II, III and IV of the Ryan White Comprehensive AIDS Emergency (CARE) Act of 1990, as amended by the Ryan White CARE Act Amendments of 1996 and 2000 (codified under Title XXVII of the Public Health Services Act). The purpose of the Ryan White CARE Act is to provide emergency assistance to localities that are disproportionately affected by the human immunodeficiency virus (HIV) epidemic and to make financial assistance available for the development, organization, coordination, and operation of more effective and cost-efficient systems for the delivery of essential services to persons with HIV disease. The CARE Act also provides grants to States, eligible metropolitan areas, community-based programs, and early intervention programs for the delivery of services to individuals and families with HIV infection. All Titles of the CARE Act specify HRSA's responsibilities in the administration of grant funds, the allocation of funds, the evaluation of programs for the population served, and the improvement of the quantity and quality of care. Accurate records of the providers receiving CARE Act Funding, the services provided, and the clients served continue to be critical to the implementation of the legislation and thus are necessary for HRSA to fulfill its responsibilities.

Previously, grantees under each Ryan White CARE Act Title reported aggregate data on distinct Title-specific forms. The CTDR, an aggregate of these data collection forms, is designed to reduce the reporting burden for grantees with concurrent reporting responsibilities, and to eliminate title-specific reporting in order to reduce duplication among grantees and providers funded through multiple CARE Act Titles. The CTDR form collects data from grantees and their subcontracted service providers on six different areas: service provider information, client information, services provided/clients served, demographic information, AIDS Pharmaceutical Assistance and AIDS Drug Assistance Program, and the Health Insurance Program. Collected on an annual basis, the primary purposes of the CTDR are to: (1) Characterize the organizations from which clients receive services; (2) provide information on the number and characteristics of clients who receive CARE Act services; and (3) enable HAB to describe the type and amount of services a client receives. In addition to meeting the goal of accountability to Congress, clients, advocacy groups, and the general public, information collected on the CTDR is critical for HRSA, State and local grantees, and individual providers to assess the status of existing HIV-related service delivery systems.

The estimated response burden for CARE Act grantees is estimated as:

Title under which grantee is funded | Number of grantees respondents | Responses per grantee | Hours to coordinate receipt of data reports from providers | Total hour burden
Title I only | 54 | 1 | 40 | 2,160
Title II only | 50 | 1 | 40 | 2,000
Title III only | 390 | 1 | 8 | 3,120
Title IV only | 73 | 1 | 16 | 1,168
Total | 567 |  |  | 8,448

The estimated response burden for service providers is estimated as:

Title under which provider is funded | Number of provider respondents | Responses per provider | Hours per response | Total hour burden
Title I only | 1,011 | 1 | 24 | 24,264
Title II only | 836 | 1 | 40 | 33,440
Title III only | 138 | 1 | 40 | 5,520
Title IV only | 34 | 1 | 40 | 1,360
Funded under multiple Titles | 491 | 1 | 48 | 23,568
Total | 2,019 |  |  | 88,152

| Number of respondents |  |  | Total hour burden
Total | 2,586 |  |  | 96,600

Written comments and recommendations concerning the proposed information collection should be sent within 30 days of this notice to: John Morrall, Human Resources and Housing Branch, Office of Management and Budget, New Executive Office Building, Room 10235, Washington, DC 20503.

Dated: March 15, 2001.
Jane M. Harrison,
Director, Division of Policy Review and Coordination.

[FR Doc. 01-7089 Filed 3-21-01; 8:45 am]

BILLING CODE 4160-15-U